DEPARTMENT OF AGRICULTURE

Food and Nutrition Service

Agency Information Collection Activities: Proposed Collection; Comment Request—Special Supplemental Nutrition Program for Women, Infants, and Children (WIC) Farmers' Market Nutrition Program (FMNP) Program Regulations—Reporting and Recordkeeping Burden

AGENCY: Food and Nutrition Service (FNS), USDA.

ACTION: Notice.

SUMMARY: In accordance with the Paperwork Reduction Act of 1995, this notice invites the general public and other public agencies to comment on this proposed information collection. This collection is a revision of a currently approved information collection for the WIC Farmers' Market Nutrition Program (FMNP) Regulations for the reporting and recordkeeping burden associated with the WIC FMNP Program regulations.

DATES: Written comments must be received on or before September 11, 2017.

ADDRESSES:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Kurtria Watson, Chief, Policy Branch, Supplemental Food Programs Division, Food and Nutrition Service, U.S. Department of Agriculture, 3101 Park Center Drive, Room 524, Alexandria, VA 22302. Comments may also be submitted via fax to the attention of Kurtria Watson at 703-305-2196 or via email to Kurtria.Watson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kurtria Watson at 703-605-4387.

SUPPLEMENTARY INFORMATION: Title: Special Supplemental Nutrition Program for Women, Infants, and Children (WIC) Farmers' Market Nutrition Program (FMNP) Regulations—Reporting and Recordkeeping Burden.

Form Number: N/A.

OMB Number: 0584-0447.

Expiration Date: November 30, 2017.

Type of Request: Revision of a currently approved collection.

Abstract: The WIC Farmers' Market Nutrition Program (FMNP) is associated with the Special Supplemental Nutrition Program for Women, Infants, and Children, also known as WIC. The WIC Program provides supplemental foods, health care referrals, and nutrition education at no cost to low-income pregnant, breastfeeding and non-breastfeeding post-partum women, and to infants and children up to 5 years of age, who are found to be at nutritional risk. The purpose of the WIC Farmers' Market Nutrition Program (FMNP) is to provide fresh, nutritious, unprepared, locally grown fruits and vegetables through farmers' markets and roadside stands to WIC participants, and to expand awareness and use of, and sales at, farmers' markets and roadside stands. Currently, FMNP operates through State health departments in 39 States, 6 Indian Tribal Organizations, District of Columbia, Guam, Puerto Rico, and the Virgin Islands.

Section 17(m)(8) of the Child Nutrition Act of 1966, 42 U.S.C. 1786(m)(8), and the WIC Farmers' Market Nutrition Program (FMNP) regulations at 7 CFR part 248 require that certain program-related information be collected and that full and complete records concerning FMNP operations are maintained. The information reporting and recordkeeping burdens are necessary to ensure appropriate and efficient management of the FMNP program. These burden activities are covered by this Information Collection Request (ICR) which include requirements that involve the authorization and monitoring of State agencies; the certification of FMNP participants; the nutrition education that is provided to participants; farmer and market authorization, monitoring, and management; and financial and participation data (using FNS 683 B approved under OMB Control Number: 0584-0594, Expiration Date: 06/2019). State plans (using FNS 339 approved under OMB Control Number: 0584-0332, Expiration Date: 02/2019) are the principal source of information about how each State agency operates its FMNP program. Information collected from participants and local agencies is collected through State-developed forms or Management Information Systems. The information collected is used by the Department of Agriculture to manage, plan, evaluate, make decisions and report on FMNP program operations.

Revisions in burden hours are due to program adjustments that primarily reflect expected changes in the number of Individuals/Household FMNP participants; this affected public was not included in the currently approved information collection request. The oversight is being remedied with this request and we are now including the burden on individuals/households. Additionally, there are changes to the number of FMNP authorized farmers and markets; and FMNP authorized State agencies who are participating in this program.

The currently approved burden for this collection is 23,661. FNS is seeking 931,145, an increase of 907,484 burden hours. The currently approved total annual responses is 18,433.68. We are requesting 4,968,387 which is an increase of 4,949,953.35 total annual responses. The currently approved reporting burden is 23,331.98; we are requesting 517,177. This revision increased the reporting burden by 493,845 hours. The currently approved burden for recordkeeping is 329 and we are requesting 413,968. This increased the recordkeeping burden by 413,639, and increased the total approved reporting and recordkeeping burden by 907,484 hours.

Affected Public: Respondents include State agencies, local agencies and Indian Tribal Organizations, Individuals/Households (participants), and authorized FMNP outlets (farmers, farmers' markets, roadside stands).

Estimated Number of Respondents: The total estimated number of respondents is 1,660,227. This includes: State agencies (49), local agencies & Indian Tribal Organizations (980), Individuals/Households (1,646,589 participants), and authorized FMNP outlets (farmers, farmers' markets, roadside stands) (12,560).

Estimated Number of Responses per Respondent: The total estimated number of responses per respondent for this collection is 3.

Estimated Total Annual Responses: The total estimated number of annual responses for this collection is 4,968,387.

Estimated Time per Response: The estimated time per response averages .19 hours for all participants. For the reporting burden, the estimated time of response varies from approximately 1 minute to 40 hours, while the estimated time of response for the recordkeeping burden varies from 15 minutes to 40 hours, depending on the respondent group.

Estimated Total Annual Burden on Respondents: The estimated total annual burden on respondents for this collection is 931,145 hours. The reporting and recordkeeping burden is 517,177 and 413,968 hours, respectively.

See the table below for the estimated total annual burden for each type of respondent.

Dated: June 29, 2017.
Jessica Shahin,
Acting Administrator, Food and Nutrition Service, USDA.

[FR Doc. 2017-14623 Filed 7-12-17; 8:45 am]

BILLING CODE 3410-30-P